DEPARTMENT OF LABOR

Mine Safety and Health Administration

[OMB Control No. 1219-0041]

Proposed Extension of Information Collection: Program To Prevent Smoking in Hazardous Areas of Underground Coal Mines

AGENCY: Mine Safety and Health Administration, Labor.

ACTION: Request for public comments.

SUMMARY: The Department of Labor (DOL), as part of its continuing effort to reduce paperwork and respondent burden, conducts a pre-clearance consultation program for all information collections, to provide the public and Federal agencies with an opportunity to comment on proposed collections of information, in accordance with the Paperwork Reduction Act of 1995. This program helps to ensure that requested data can be provided in the desired format, reporting burden (time and financial resources) is minimized, collection instruments are clearly understood, and the impact of collection requirements on respondents can be properly assessed. The Mine Safety and Health Administration (MSHA) is soliciting comments on the information collection titled “Program to Prevent Smoking in Hazardous Areas of Underground Coal Mines.”

DATES: All comments must be received on or before November 24, 2025.

ADDRESSES: Comments concerning the information collection requirements of this notice may be sent by any of the methods listed below. Please note that comments received after the deadline will not be considered.

• Federal E-Rulemaking Portal: https://www.regulations.gov. Follow the instructions for submitting comments for docket number MSHA-2025-0071.

• Mail/Hand Delivery: DOL-MSHA, Office of Standards, Regulations, and Variances, 200 Constitution Avenue NW, Room C3522, Washington, DC 20210. Before visiting MSHA in person, call 202-693-9440 to make an appointment.

• MSHA will post all comments as well as any attachments, except for information submitted and marked as confidential, in the docket at https://www.regulations.gov.

FOR FURTHER INFORMATION CONTACT: Jessica D. Senk, Acting Director, Office of Standards, Regulations, and Variances, MSHA, at MSHA.information.collections@dol.gov (email); (202) 693-9440 (voice); or (202) 693-9441 (facsimile). These are not toll-free numbers.

SUPPLEMENTARY INFORMATION:

I. Background

A. Legal Authority

Section 103(h) of the Federal Mine Safety and Health Act of 1977 (Mine Act), as amended, 30 U.S.C. 813(h), authorizes the Mine Safety and Health Administration (MSHA) to collect information necessary to carry out its duty in protecting the safety and health of miners. Further, section 101(a) of the Mine Act, 30 U.S.C. 811(a), authorizes the Secretary of Labor (Secretary) to develop, promulgate, and revise, as may be appropriate, improved mandatory health or safety standards for the protection of life and prevention of injuries in coal, metal and nonmetal (MNM) mines.

The Paperwork Reduction Act of 1995 (PRA) governs paperwork burdens imposed on the public by Federal agencies for using identical questions to collect information from 10 or more persons. The PRA defines paperwork burden in 44 U.S.C. 3502(2) as time, effort, or financial resources expended to generate, maintain, or provide information to or for a Federal agency. Under 44 U.S.C. 3507, the PRA also establishes policies and procedures of information collection for controlling paperwork burdens imposed by Federal agencies on the public, including evaluating public comments.

B. Information Collection

To fulfill its statutory mandate to promote miners' health and safety, MSHA requires information collected under the ICR titled “Program to Prevent Smoking in Hazardous Areas of Underground Coal Mines.” This information collection is intended to ensure persons entering the underground area of the mine do not carry smoking materials, matches, or lighters and determine the mine operator's compliance with the requirement to institute a smoking prevention program.

Burden costs associated with the ICR include developing and submitting smoking prevention programs for MSHA's approval.

The associated standards that authorize the collection of information are described below.

1. Developing Smoking Prevention Programs

Under 30 CFR 75.1702, no person is allowed to smoke, carry smoking materials, matches, or lighters underground, or smoke in or around oil houses, explosives magazines, or other surface areas where such practice may cause a fire or explosion. The operator must institute a program, approved by the Secretary, to ensure that any person entering the underground area of the mine does not carry smoking materials, matches, or lighters.

2. Submitting Smoking Prevention Programs

Under 30 CFR 75.1702-1, programs to ensure that any person entering the underground area of the mine does not carry smoking materials, matches, or lighters must be submitted to the District Manager for approval.

II. Desired Focus of Comments

MSHA is soliciting comments concerning the proposed information collection titled “Program to Prevent Smoking in Hazardous Areas of Underground Coal Mines.” MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, including through the use of appropriate automated, electronic, mechanical, or other technological collection techniques or other forms of information technology, e.g., permitting electronic submission of responses.

The ICR available on https://www.regulations.gov. MSHA cautions commenters against providing any information in the submission that should not be publicly disclosed. Full comments, including personal information provided, will be made available on https://www.regulations.gov and https://www.reginfo.gov.

The public may also examine publicly available documents at DOL-MSHA, Office of Standards, Regulations and Variances, 200 Constitution Avenue NW, Room C3522, Washington, DC 20210. Before visiting MSHA in person, call 202-693-9440 to make an appointment.

Questions about the information collection requirements may be directed to the person listed in the FOR FURTHER INFORMATION section of this notice.

III. Current Actions

This ICR concerns provisions for Program to Prevent Smoking in Hazardous Areas of Underground Coal Mines. MSHA has updated the data with respect to the number of respondents, responses, time burden, and burden costs supporting this ICR from the previous ICR.

Type of Review: Extension, without change, of a currently approved collection.

Agency: Mine Safety and Health Administration.

OMB Number: 1219-0041.

Affected Public: Business or other for-profit entity.

Number of Annual Respondents: 24.

Frequency: On occasion.

Number of Annual Responses: 25.

Annual Time Burden: 13 hours.

Annual Other Burden Costs: $0.

Comments submitted in response to this notice will be summarized and included in the request for Office of Management and Budget approval of the proposed ICR; they will become a matter of public record and be available at https://www.reginfo.gov.

Jessica D. Senk,
Certifying Officer, Mine Safety and Health Administration.

[FR Doc. 2025-18543 Filed 9-24-25; 8:45 am]

BILLING CODE 4510-43-P